DEPARTMENT OF ENERGY

Federal Energy Regulatory Commission

Notice of Staff Attendance at Southwest Power Pool Regional Entity Trustee, Regional State Committee and Board of Directors Meetings

The Federal Energy Regulatory Commission hereby gives notice that members of its staff may attend the meetings of the Southwest Power Pool, Inc. (SPP) Regional Entity Trustee (RE), Regional State Committee (RSC) and Board of Directors, as noted below. Their attendance is part of the Commission's ongoing outreach efforts.

All meetings will be held at the Renaissance Oklahoma City, 10 North Broadway Avenue, Oklahoma City, OK 73102. The hotel phone number is (800) 468-3571.

SPP RE

April 23, 2012 (8 a.m.-12 p.m.)

SPP RSC

April 23, 2012 (1 p.m.-5 p.m.)

SPP Board of Directors

April 24, 2012 (8 a.m.-3 p.m.)

The discussions may address matters at issue in the following proceedings:

Docket No. ER06-451, Southwest Power Pool, Inc.

Docket No. ER08-1419, Southwest Power Pool, Inc.

Docket No. ER09-659, Southwest Power Pool, Inc.

Docket No. ER09-1050, Southwest Power Pool, Inc.

Docket No. ER10-941, Southwest Power Pool, Inc.

Docket No. ER11-4105, Southwest Power Pool, Inc.

Docket No. ER12-140. Southwest Power Pool, Inc.

Docket No. ER12-430, Southwest Power Pool, Inc.

Docket No. ER12-550, Southwest Power Pool, Inc.

Docket No. ER12-891, Southwest Power Pool, Inc.

Docket No. ER12-1017, Southwest Power Pool, Inc.

Docket No. ER12-1018, Southwest Power Pool, Inc.

Docket No. ER12-1179, Southwest Power Pool, Inc.

Docket No. ER12-1401, Southwest Power Pool, Inc.

Docket No. ER12-1402, Southwest Power Pool, Inc.

Docket No. EL12-2, Southwest Power Pool, Inc.

Docket No. EL12-47, Southwest Power Pool, Inc.

Docket No. ER11-3728, Midwest Independent System Operator, Inc.

Docket No. ER12-480, Midwest Independent System Operator, Inc.

Docket No. EL11-34, Midwest Independent System Operator, Inc.

These meetings are open to the public.

For more information, contact Patrick Clarey, Office of Energy Market Regulation, Federal Energy Regulatory Commission at (317) 249-5937 or patrick.clarey@ferc.gov.

Dated: April 16, 2012.
Kimberly D. Bose,
Secretary.

[FR Doc. 2012-9660 Filed 4-20-12; 8:45 am]

BILLING CODE 6717-01-P